NATIONAL AERONAUTICS AND SPACE ADMINISTRATION

[Notice: (22-089)]

Planetary Science Advisory Committee; Meeting

AGENCY: National Aeronautics and Space Administration.

ACTION: Notice of meeting.

SUMMARY: In accordance with the Federal Advisory Committee Act, Public Law 92-463, as amended, the National Aeronautics and Space Administration (NASA) announces a meeting of the Planetary Science Advisory Committee. The meeting will be held for the purpose of soliciting, from the scientific community and other persons, scientific and technical information relevant to program planning.

DATES: Monday, December 5, 2022, 10:00 a.m. to 6:00 p.m., Eastern Time; and Tuesday, December 6, 2022, 10:00 a.m. to 6:00 p.m., Eastern Time.

ADDRESSES: Virtual meeting via telephone and WebEx.

FOR FURTHER INFORMATION CONTACT: Ms. KarShelia Kinard, Science Mission Directorate, NASA Headquarters, Washington, DC 20546, (202) 358-2355 or karshelia.kinard@nasa.gov.

SUPPLEMENTARY INFORMATION: As noted above, this meeting will be available telephonically and via WebEx.

For Monday, December 5, the WebEx information for attendess is: https://nasaenterprise.webex.com/nasaenterprise/j.php?MTID=mecbc5b9797e7620ff4bf243759dbc18c. The Webinar number is 2760 894 5087 and the password is P@C-psd-1205 (71207731 from phones). To join by telephone call, use U.S. Toll +1-929-251-9612 (Access code: 276 089 45087).

For Tuesday, December 6, the WebEx information for attendees is: https://nasaenterprise.webex.com/nasaenterprise/j.php?MTID=m3fd0d89e8c8864d864ae6d339f2efadd. The Webinar number is 2763 772 4826 and the password is P@C-psd-1206 (71207731 from phones). To join by telephone call, use U.S. Toll +1-929-251-9612 (Access code: 276 377 24826).

Accessibility: Captioning will be provided for this meeting. We are committed to providing equal access to this meeting for all participants. If you need alternative formats or other reasonable accommodations, please contact Ms. KarShelia Kinard, Science Mission Directorate, NASA Headquarters, Washington, DC 20546, (202) 358-2355 or karshelia.kinard@nasa.gov.

The agenda for the meeting includes the following topics:

—Planetary Science Division Update

—Planetary Science Division Research and Analysis Program Update

It is imperative that the meeting be held on these dates to accommodate the scheduling priorities of the key participants.

Carol Hamilton,
Acting Advisory Committee Management Officer, National Aeronautics and Space Administration.

[FR Doc. 2022-24231 Filed 11-4-22; 8:45 am]

BILLING CODE 7510-13-P